ENVIRONMENTAL PROTECTION AGENCY

[FRL-7975-3]

New Hampshire Sanitation Device Standard; Notice of Determination

This Notice of Determination is for all New Hampshire coastal waters.

On July 8, 2005 notice was published that the State of New Hampshire had petitioned the Regional Administrator, Environmental Protection Agency, to determine that adequate facilities for the safe and sanitary removal and treatment of sewage from all vessels are reasonably available for all coastal waters of New Hampshire. The petition was filed pursuant to section 312(f)(3) of Public Law 92-500, as amended by Public laws 95-217 and 100-4, for the purpose of declaring these waters a “No Discharge Area” (NDA).

Section 312(f)(3) states: After the effective date of the initial standards and regulations promulgated under this section, if any State determines that the protection and enhancement of the quality of some or all of the waters within such States require greater environmental protection, such State may completely prohibit the discharge from all vessels of any sewage, whether treated or not, into such waters, except that no such prohibition shall apply until the Administrator determines that adequate facilities for the safe and sanitary removal and treatment of sewage from all vessels are reasonably available for such water to which such prohibition would apply.

The information submitted to me by the State of New Hampshire certified that there are six disposal facilities available to service vessels operating in the coastal waters of New Hampshire. A list of the facilities, phone numbers, locations, and hours of operation is appended at the end of the determination.

Based on the examination of the petition and its supporting information, which included site visits by EPA New England staff, I have determined that adequate facilities for the safe and sanitary removal and treatment of sewage from all vessels are reasonably available for the area covered under this determination.

The area covered under this determination is:

Waterbody/general area | Latitude | Longitude
Open Ocean—southern | 42°51′26.81241″ | −70°44′50.43790″
Open Ocean—south of Isles of Shoals | 42°54′54.69793″ | −70°37′48.0360″
Open Ocean—east of Isles of Shoals | 42°57′24.92153″ | −70°32′6.08357″
Open Ocean—northern | 43°0′40.06352″ | −70°39′39.85119″
Open Ocean—center | 42°57′13.00278″ | −70°41′42.94551″
Hampton Falls River | 42°54′39.99647″ | −70°51′49.17592″
Great Bay—Squamscott River | 42°58′55.12418″ | −70°56′45.02511″
Great Bay—Lamprey River | 43°4′53.81971″ | −70°56′4.65330″
Little Bay—Oyster River | 43°7′51.91065″ | −70°55′4.−70649″
Cocheco River | 43°11′42.30454″ | −70°52′21.96791″
Salmon Falls River | 43°13′36.97946″ | −70°48′40.68515″

This determination is made pursuant to section 312 (f)(3) of Public Law 92-500, as amended by Public Laws 95-217 and 100-4.

EPA has prepared a response to the one written comment it received during the 45-day comment period, and it may be requested from EPA by writing to: Ann Rodney, U.S. EPA New England, 1 Congress Street, Suite 1100, COP, Boston, MA 2114-2023.

Marinas With Pumpout Stations
Marina name | Town | Waterbody | Phone number and VHF number | Contact | Operating hours
George's Marina | Dover | Cocheco River | (603) 742-9089 | George Maglaras | 8:30 a.m.-5:00 p.m. (weekdays); 8:30 a.m.-6:00 p.m. (Saturday); 9:00 a.m.-4:00 p.m. (Sunday).
Little Bay Boating Club | Dover | Little Bay | (603) 749-9282 VHF: 9, 16 | Ed Rosholt | Call marina.
Great Bay Marine | Newington | Little Bay | (603) 436-5299 VHF: 9, 68 | Ellen Saas/Tom Brown | 24 hours (May through October).
Wentworth by the Sea Marina | New Castle | Little Harbor | (603) 433-5050 VHF: 9, 68, 71 | Pat Kelley | 8:00 a.m.-8:00 p.m. (weekdays); 7:00 a.m. 8:00 p.m. (weekends).
Hampton River Marina | Hampton | Hampton Harbor | (603) 929-1422 VHF:10, 16 | Len Russell | Call marina.
DES Mobile Pumpout Boat | Portsmouth | All coastal | (603) 436-0915 VHF: 9 | Steve Root/Ken Anderson | Call for an appointment.

Dated: September 20, 2005.
Ira Leighton,
Acting Regional Administrator, Region 1.

[FR Doc. 05-19252 Filed 9-26-05; 8:45 am]

BILLING CODE 6560-50-P